DEPARTMENT OF ENERGY

Notice of Intent To Grant an Exclusive Copyright License

AGENCY: National Energy Technology Laboratory, Department of Energy.

ACTION: Notice of intent to grant an exclusive copyright license.

SUMMARY: The National Energy Technology Laboratory (NETL) hereby gives notice that the Department of Energy (DOE) intends to grant an exclusive license to practice the copyrighted software titled “The Variable Grid Tool V.1,” to VariGrid Explorations, Inc., having its principal place of business in Missouri City, Texas. The copyright is owned by the United States of America, as represented by DOE, via copyright assignment.

DATES: Written comments, objections, or nonexclusive license applications must be received at the ADDRESSES listed no later than June 22, 2018. Objections submitted in response to this notice will not be made available to the public for inspection and, to the extent permitted by law, will not be released under the Freedom of Information Act, 5 U.S.C. 552.

ADDRESSES: Comments, applications for nonexclusive licenses, or objections relating to the prospective exclusive license should be submitted to Jessica Lamp, Technology Transfer Program Manager, U.S. Department of Energy, National Energy Technology Laboratory, P.O. Box 10940, Pittsburgh, PA 15236-0940 or via facsimile to (412) 386-4183.

FOR FURTHER INFORMATION CONTACT: Jessica Lamp, Technology Transfer Program Manager, U.S. Department of Energy, National Energy Technology Laboratory, P.O. Box 10940, Pittsburgh, PA 15236; Telephone (412) 386-7417; Email: jessica.lamp@netl.doe.gov.

SUPPLEMENTARY INFORMATION: VariGrid Explorations, Inc., has applied for an exclusive license to practice the copyrighted software and has a plan for commercialization of the software. DOE intends to grant the license, unless within 15 days of publication of this notice, NETL's Technology Transfer Program Manager (contact information listed) receives in writing any of the following, together with supporting documents:

(i) A statement from any person setting forth reasons why it would not be in the best interest of the United States to grant the proposed license; or

(ii) An application for a nonexclusive license to the copyrighted software, in which applicant states that it already has brought the software to practical application or is likely to bring the software to practical application expeditiously.

The proposed license would be exclusive, subject to a license and other rights retained by the United States. DOE will review all timely written responses to this notice, and will grant the license if, after expiration of the 15-day notice period, and after consideration of any written responses to this notice, a determination is made that the license is in the public interest.

Dated: May 18, 2018.
Sean I. Plasynski,
Director (Acting), National Energy Technology Laboratory.

[FR Doc. 2018-12262 Filed 6-6-18; 8:45 am]

BILLING CODE 6450-01-P